DEPARTMENT OF THE INTERIOR

National Park Service

36 CFR Part 7

[NPS-GLCA-20681; PPIMGLCAS1; PPMPSAS1Z.YP0000]

RIN 1024-AD93

Special Regulations of the National Park Service; Glen Canyon National Recreation Area; Motor Vehicles

AGENCY: National Park Service, Interior.

ACTION: Proposed rule.

SUMMARY: The National Park Service proposes to amend its special regulations for Glen Canyon National Recreation Area to manage the use of motor vehicles on and off park roads. The rule would require a permit to operate a motor vehicle off roads in selected locations, designate routes and areas where motor vehicles may be used off roads, and allow the superintendent to establish closures and restrictions based upon specific criteria. The rule would also allow certain types of off-road vehicles on some paved and unpaved roads in the recreation area. Unless provided for by special regulation, operating a motor vehicle off roads within areas of the National Park System is prohibited.

DATES: Comments must be received by April 30, 2018.

ADDRESSES: You may submit comments, identified by the Regulation Identifier Number (RIN) 1024-AD93, by any of the following methods:

• Federal eRulemaking Portal: http://www.regulations.gov. Follow the instructions for submitting comments.

• Mail to: Superintendent, Glen Canyon National Recreation Area, P.O. Box 1507, Page, Arizona 86040.

• Hand Deliver to: Superintendent, Glen Canyon National Recreation Area, 691 Scenic View Drive, Page, Arizona.

Instructions: All submissions received must include the agency name and RIN for this rulemaking. Comments received will be posted without change to http://www.regulations.gov, including any personal information provided. For additional information, see the “Public Participation” heading of the SUPPLEMENTARY INFORMATION section of this document.

Docket: For access to the docket to read background documents or comments received, go to http://www.regulations.gov.

FOR FURTHER INFORMATION CONTACT: William Shott, Superintendent, Glen Canyon National Recreation Area, P.O. Box 1507, Page, Arizona 86040, by phone at 928-608-6205, or by email at GLCA_Superintendent@nps.gov.

SUPPLEMENTARY INFORMATION:

Purpose and Significance of Glen Canyon National Recreation Area

Congress established Glen Canyon National Recreation Area (the recreation area) in 1972 “to provide for the public outdoor recreation use and enjoyment of Lake Powell and lands adjacent thereto in the states of Arizona and Utah and to preserve the scenic, scientific, and historic features contributing to the public enjoyment of the area.” 16 U.S.C. 460dd.

The recreation area encompasses 1,254,117 acres in northern Arizona and southeastern Utah. The recreation area allows for a variety of recreational opportunities, including on- and off-road motor vehicle use. The recreation area contains Lake Powell, the second-largest human-made lake in North America, which provides the opportunity to recreate in a natural environment and access remote backcountry areas. The recreation area is located in the heart of the Colorado Plateau region, which offers a natural diversity of rugged water- and wind-carved canyons, buttes, mesas, and other outstanding physiographic features. Evidence of 11,000 years of human occupation and use of resources in the recreation area provides a continuing story of the prehistoric, historic, and present-day affiliation of humans and their environment. The recreation area constitutes a substantial part of the outstanding public lands of the Colorado Plateau.

Authority To Promulgate Regulations

The National Park Service (NPS) manages the recreation area under the NPS Organic Act (54 U.S.C. 100101 et seq.), which gives the NPS broad authority to regulate the use of the park areas under its jurisdiction. The Organic Act authorizes the Secretary of the Interior, acting through the NPS, to “prescribe such regulations as the Secretary considers necessary or proper for the use and management of [National Park] System units.” 54 U.S.C. 100751(a). In the recreation area's enabling act, Congress directed the Secretary of the Interior to “administer, protect, and develop the recreation area in accordance with the [Organic Act], and with any other statutory authority available to him for the conservation and management of natural resources.” 16 U.S.C. 460dd-3.

Executive Order 11644, Use of Off-Road Vehicles on the Public Lands, was issued in 1972 and amended by Executive Order 11989 in 1977. Executive Order 11644 required federal agencies to issue regulations designating specific areas and routes on public lands where the use of off-road vehicles (ORVs) may be used. NPS implemented these Executive Orders by promulgating a regulation at 36 CFR 4.10 (Travel on park roads and designated routes). Under 36 CFR 4.10, the use of motor vehicles off established roads is not permitted unless routes and areas are designated for off-road motor vehicle use by special regulation. Under 36 CFR 4.10(b), such routes and areas “may be designated only in national recreation areas, national seashores, national lakeshores and national preserves.” The proposed rule would designate routes where motor vehicles may be used off roads in the recreation area in compliance with 36 CFR 4.10 and Executive Orders 11644 and 11989.

Current Motor Vehicle Use in the Recreation Area

Off-Road Motor Vehicles

The use of motor vehicles to reach off-road destinations in Glen Canyon predates the establishment of the recreation area in 1972. After Lake Powell began to fill behind the Glen Canyon Dam in 1963, the public began driving off road to access the new lake for recreational activities. This ORV use continued following the establishment of the recreation area in 1972. ORV use is currently occurring in four general locations within the recreation area:

• Lone Rock Beach is open to conventional vehicles, off-highway vehicles, and street-legal all-terrain vehicles. The speed limit at Lone Rock Beach is 15 mph.

• Lone Rock Beach Play Area is located on a hill above and to the southwest of Lone Rock Beach. This 180-acre area is enclosed by a fence and open to unrestricted, high-intensity ORV use. This area is a place where ORV operators can challenge themselves, develop riding skills, operate at high speeds, and perform jumps and hill climbs. There is no speed limit in the play area.

• Accessible Shoreline Areas provide public access by conventional motor vehicles to the Lake Powell shoreline for the purposes of recreation (fishing, swimming, boating, etc.). The public is allowed to depart the road and drive to the shoreline and park in designated ORV areas. There are 13 designated accessible shoreline areas (Blue Notch, Bullfrog North and South, Copper Canyon, Crosby Canyon, Dirty Devil, Farley Canyon, Neskahi, Paiute Canyon, Red Canyon, Stanton Creek, Warm Creek, White Canyon, and Hite Boat Ramp). Three shoreline areas (Bullfrog North and South, Crosby Canyon, and Warm Creek) are closed to ORVs in the superintendent's compendium. ORVs are not allowed at Nokai Canyon and Paiute Farms, but these areas are accessed occasionally by ORVs.

• Ferry Swale is an area in the Arizona portion of the recreation area with approximately 54 miles of unauthorized routes that have been created by users over time.

On-Road Motor Vehicle Use

A comprehensive planning process begun by the NPS after the establishment of the recreation area resulted in a General Management Plan (GMP) that was published in 1979. The GMP designated a system of paved and unpaved roads open to vehicle travel and closed several existing unpaved roads in the backcountry. The paved and unpaved network of roads identified in the GMP is open to motor vehicle travel, subject to restrictions on the types of vehicles that are allowed on specific roads. These roads are referred to in this proposed rule as “GMP roads.” All other roads within the recreation area are closed to public motor vehicle travel. Driving a motor vehicle off any paved or unpaved GMP road is considered off-road motor vehicle use.

The Orange Cliffs Special Management Unit is located in the northeast portion of the recreation area. This Unit adjoins Canyonlands National Park, is similar in physiography, and has many of the same management issues as the Canyonlands Maze District. The Canyonlands National Park and Orange Cliffs Unit of Glen Canyon National Recreation Area Backcountry Management Plan (NPS 1995) and the accompanying environmental assessment (NPS 1993) consist of an inter-park management plan developed to increase consistency and protection for visitors to both the Maze District of Canyonlands and the Orange Cliffs in Glen Canyon. The backcountry management plan was predicated on the GMP, which states that the Orange Cliffs Special Management Unit is to be “maintained as a critical backdrop for Canyonlands National Park and as a major vantage point for spectacular views into the park.” The Orange Cliffs Unit is managed “to maintain a relatively primitive, undeveloped atmosphere” and to provide “year-round access to Panorama Point” (NPS 1979).

Off-Road Vehicle Management Plan/Draft Environmental Impact Statement

The NPS has been managing ORV use in the recreation area for several decades. Although NPS had implemented ORV management plans for various parts of the recreation area in 1981 (Lone Rock Beach) and 1988 (20 accessible shoreline areas on Lake Powell), past planning efforts failed to comply with the NPS regulation that requires a special regulation to designate off-road use areas. In 2005, the NPS was challenged in federal court over the failure to comply with Executive Orders 11644 and 11989, and 36 CFR 4.10(b) (Friends of the Earth, Bluewater Network Division, et al. v. United States Department of the Interior, et al. Case 1:05-cv-02302-RCL]). Under the terms of the 2008 settlement agreement between the parties to that litigation, the NPS prepared an Off-Road Vehicle Management Plan/Draft Environmental Impact Statement (DEIS). In compliance with the settlement agreement, the NPS also developed interim ORV plans for the accessible shoreline areas, Lone Rock Beach, and Lone Rock Play Area. The interim plans will remain in effect until the Off-Road Vehicle Management Plan/Final Environmental Impact Statement (FEIS) is completed and the Regional Director for the Intermountain Region signs a Record of Decision (ROD) identifying the selected action from the alternatives described in the FEIS. After the ROD is signed, the FEIS will supersede all previous ORV management plans for the recreation area.

A detailed history of prior NPS management of on- and off-road vehicle use can be found in the FEIS, which can be viewed online at http://parkplanning.nps.gov/GLCAFinalORVplan. The FEIS analyzes the issues and environmental impacts of five alternatives for the management of on- and off-road motor vehicle use in the recreation area. Major issues analyzed in the FEIS include social and economic issues, human health and safety, wildlife, natural soundscapes, wilderness, and visitor use and experience. Impacts associated with each of the alternatives are described in the FEIS.

Proposed Rule

This proposed rule would establish a special regulation pursuant to 36 CFR 4.10(b) to manage ORV use at the recreation area. The special regulation would implement the preferred alternative (Alternative E) for the recreation area described in the FEIS. The preferred alternative provides the largest range of experiences for visitors and enhances experiences of different user groups, such as motor vehicle users and those who seek a more primitive camping experience. The preferred alternative is designed to protect resources while enhancing the visitor experience by identifying and designating specific areas capable of ORV use while prohibiting ORV use in areas where resources and values may be at risk. The final rule will implement the alternative selected in the Record of Decision, which will be signed by the Intermountain Regional Director prior to publication of the final rule.

Types of Motor Vehicles

In order to effectively manage the use of motor vehicles in the recreation area, the NPS is proposing definitions to distinguish among a range of vehicle types. Under Executive Order 11644, an ORV means any motor vehicle designed for or capable of cross-country travel on or immediately over natural terrain. Under this broad definition, an ORV may be a truck, an all-terrain vehicle (ATV), a sedan, a dirt bike, or any other motor vehicle that is capable of off-road travel. Among ORVs, the proposed rule would distinguish between conventional motor vehicles, off-highway vehicles (OHVs), and street-legal ATVs, as follows:

• Conventional motor vehicle would be defined as any motor vehicle that is designed primarily for operation on streets and highways, and that is licensed and registered for interstate travel. Automobiles, vans, highway motorcycles (including a dual-sports motorcycle licensed for use on a highway), sport utility vehicles (SUVs), recreational vehicles (RVs), pickup trucks, and buses would be examples of conventional motor vehicles.

• OHV would be defined as any motor vehicle—excluding snowmobiles—that is designed primarily for off-road travel. ATVs, dirt bikes, sand rails, side-by-sides, and dune buggies would be examples of OHVs.

• Street-legal ATV would be defined as an ATV that qualifies under Arizona or Utah motor vehicle and traffic code to be operated on state roads and highways. Under current Arizona and Utah law, dune buggies, sand rails, go-karts, and rock crawlers cannot be licensed as street legal.

Under the proposed rule's definitions, conventional motor vehicles would not include OHVs or street-legal ATVs. The proposed rule would allow certain types of ORVs (conventional motor vehicles, OHVs, or street-legal ATVs) to operate in designated ORV areas, on designated ORV routes, and on paved and unpaved roads identified in the GMP.

Adoption of Non-Conflicting State Motor Vehicle Laws

Existing NPS regulations at 36 CFR 4.2 adopt state traffic and vehicle laws to manage the use of motor vehicles within NPS-administered areas, unless specifically addressed by NPS regulations. The proposed rule would implement specific regulations governing the use of ORVs in the recreation area, and would allow the superintendent to impose additional closures, restrictions, or conditions to resolve visitor safety or resource protection concerns that are not addressed by state law. All other issues (e.g. license, registration, vehicle requirements, inspection, insurance) related to the use of motor vehicles in the recreation area would continue to be governed by the adopted laws and regulations of Arizona or Utah. Operators of conventional motor vehicles, OHVs, and street-legal ATVs would continue to be responsible for complying with all applicable Utah and Arizona statutes and regulations pertaining to the lawful operation of those vehicles. The FEIS lists current OHV operator and vehicle requirements for Arizona and Utah. These requirements are subject to change and may not be inclusive of all requirements.

Permit System

The proposed rule would require a special use permit to operate a motor vehicle off GMP roads in the recreation area. Permits would be required for all designated ORV locations except for designated routes in Middle Moody Canyon, East Gypsum Canyon, Imperial Valley, and Gunsight Springs. The NPS would issue a decal with each permit that would be required to be affixed to each vehicle in a manner and location determined by the superintendent. Decals would be required for each ORV operating in designated ORV areas or on designated ORV routes in the recreation area where a permit is required. Families could submit a single application for permits for multiple vehicles that are registered to members of that family. Annual permits would be valid for one calendar year from the date of issuance; two-week permits would also be available and valid from the date of issuance.

Permit applications (NPS Form 10-933 “Application for Special Use Permit—Vehicle/Watercraft Use”) would be available at headquarters (691 Scenic View Drive, Page, AZ 86040), at recreation area entrance stations when staffed, on the recreation area's website, and at other locations as designated by the superintendent. Permits would be issued after the applicant reads educational materials and acknowledges that he or she has read, understood, and agrees to abide by the rules governing ORV use in the recreation area and the terms and conditions of the permit. Permit applications could be mailed to the recreation area at Glen Canyon National Recreation Area, P.O. Box 1507, Page, AZ 86040-1507, brought to headquarters or an entrance station, or completed online. After the NPS processes completed permit applications, it would mail or provide a permit to the applicant with instructions and educational materials, including a decal to be affixed to each permitted ORV. Violating the terms or conditions of any permit would be prohibited and may result in the suspension or revocation of the permit and the denial of future permits.

To the extent practicable, the NPS intends to recover the costs of administering this special use permit program under 54 U.S.C. 103104. In order to obtain a special use permit to operate a motor vehicle off roads in the recreational area, the proposed rule would require operators to pay a permit fee to allow the NPS to recover these costs.

Designated ORV Routes and Areas

The proposed rule would prohibit ORV use off GMP roads in the recreation area, except for NPS-designated ORV routes and areas. The proposed rule contains management prescriptions for each location, including seasonal closures, speed limits, quiet hours, and the types of ORV that would be allowed. These locations would be identified on maps located at headquarters (691 Scenic View Drive, Page, AZ 86040), visitor contact stations, and on the recreation area's website. Certain locations within some designated ORV areas would be designated as vehicle-free zones to provide a different camping experience for those who prefer to be separated from motor vehicle use. All locations designated for ORV use would be posted with appropriate signs that include applicable rules and regulations. The lakeside boundary of accessible shoreline areas that are designated for ORV use will fluctuate with the level of Lake Powell, but the remaining boundary of such areas will remain fixed.

Operational and Vehicle Requirements

To provide for the safety of ORV operators at the Lone Rock Beach Play Area, the NPS is proposing to require the display of a solid red or orange safety flag that is a minimum of six by 12 inches in size and that is attached to either:

• The ORV so that the safety flag is at least eight feet above the surface level of the ground, or

• the protective headgear of the operator of a motorcycle so that the safety flag is at least 18 inches above the top of the operator's head.

To reduce the degree and geographic extent of impacts from vehicle noise on soundscapes in the recreation area, NPS is proposing to implement a 96 dBA noise limit on all vehicles. Noise level would be measured by NPS staff using the SAE J1287 standard. Enforcement of this standard may include courtesy checks, checkpoints, and individual contacts. Measurements would be taken using certified equipment and protocols as is done with traffic radar. The proposed rule would require motor vehicles to have a functioning muffler system. These requirements would be in addition to state motor vehicle and operator requirements that are adopted by 36 CFR 4.2.

Travel on GMP Roads

The proposed rule would continue to allow conventional motor vehicles on all paved and unpaved GMP roads in the recreation area. Street-legal ATVs would be allowed to operate on paved GMP roads except for the Lees Ferry Access Road. OHVs and street-legal ATVs would be allowed to operate on most unpaved GMP roads. OHVs and street-legal ATVs would be prohibited on GMP roads in the Orange Cliffs Special Management Unit, except for the Poison Spring Loop. On-road OHV and street-legal ATV use would be subject to the same restrictions and rules as conventional motor vehicle use. The speed limit on unpaved GMP roads would be 25 mph or as posted. The speed limits on paved GMP roads would not change and would remain as currently posted. GMP roads would be designated and posted with road numbers. Signs would indicate the status of a road segment as open or closed to OHV and street-legal ATV use and would delineate the designated travel routes. Signs indicating that a GMP road is closed to OHVs or street-legal ATVs would remain in place or would be posted as needed.

Superintendent's Discretionary Authority

Independent from the authority in 36 CFR 1.5, the proposed rule would allow the superintendent to close or reopen designated areas or routes to motor vehicle use, or designate roads for street-legal ATV or OHV use, or portions thereof, or impose conditions or restrictions on the use of off-road motor vehicles after taking into consideration public health and safety, natural and cultural resource protection, lake levels, and other management activities and objectives. The superintendent would provide public notice of all such actions through one or more of the methods listed in 36 CFR 1.7.

Compliance With Other Laws, Executive Orders, and Department Policy

Use of Off-Road Vehicles on the Public Lands (Executive Orders 11644 and 11989)

Executive Order 11644, as amended by Executive Order 11989, was adopted to address impacts on public lands from ORV use. The Executive Order applies to ORV use on federal public lands that is not authorized under a valid lease, permit, contract, or license. Section 3(a)(4) of Executive Order 11644 provides that ORV “[a]reas and trails shall be located in areas of the National Park System, Natural Areas, or National Wildlife Refuges and Game Ranges only if the respective agency head determines that off-road vehicle use in such locations will not adversely affect their natural, aesthetic, or scenic values.” Since the E.O. clearly was not intended to prohibit all ORV use everywhere in these units, the term “adversely affect” does not have the same meaning as the somewhat similar terms “adverse impact” and “adverse effect” used in the National Environmental Policy Act of 1969 (NEPA). In analyses under NEPA, a procedural statute that provides for the study of environmental impacts, the term “adverse effect” includes minor or negligible effects.

Section 3(a)(4) of the Executive Order, by contrast, concerns substantive management decisions and must be read in the context of the authorities applicable to such decisions. Glen Canyon National Recreation Area is an area of the National Park System. Therefore, NPS interprets the Executive Order term “adversely affect” consistent with its NPS Management Policies 2006. Those policies require that the NPS only allow “appropriate use” of parks and avoid “unacceptable impacts.”

This rule is consistent with those requirements. It will not impede attainment of the recreation area's desired future conditions for natural and cultural resources as identified in the FEIS. NPS has determined that this rule will not unreasonably interfere with the atmosphere of peace and tranquility or the natural soundscape maintained in natural locations within the recreation area. Therefore, within the context of the resources and values of the recreation area, motor vehicle use on the routes and areas designated by this rule would not cause an unacceptable impact to the natural, aesthetic, or scenic values of the recreation area.

Section 8(a) of the Executive Order requires agency heads to monitor the effects of ORV use on lands under their jurisdictions. On the basis of information gathered, agency heads may from time to time amend or rescind designations of areas or other actions as necessary to further the policy of the Executive Order. The preferred alternative in the FEIS includes monitoring and resource protection procedures and periodic review to provide for the ongoing evaluation of impacts of motor vehicle use on protected resources. The superintendent has authority to take appropriate action as needed to protect the resources of the recreation area.

Regulatory Planning and Review (Executive Orders 12866 and 13563)

Executive Order 12866 provides that the Office of Information and Regulatory Affairs (OIRA) in the Office of Management and Budget will review all significant rules. OIRA has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Reducing Regulation and Controlling Regulatory Costs (Executive Order 13771)

This rule is an E.O. 13771 deregulatory action because once finalized, it will have costs less than zero.

Regulatory Flexibility Act (RFA)

This rule will not have a significant economic effect on a substantial number of small entities under the RFA (5 U.S.C. 601 et seq.). This certification is based on the cost-benefit and regulatory flexibility analyses found in the report entitled “Benefit-Cost and Regulatory Flexibility Analyses: Special Regulations of Off-Road Motor Vehicles at Glen Canyon National Recreation Area” that can be viewed online at http://parkplanning.nps.gov/GLCAFinalORVplan by clicking the link entitled “Document List.” According to that report, no small entities would be directly regulated by the proposed rule, which would only regulate visitor use of ORVs.

Small Business Regulatory Enforcement Fairness Act (SBREFA)

This rule is not a major rule under 5 U.S.C. 804(2), the SBREFA. This rule:

(a) Does not have an annual effect on the economy of $100 million or more.

(b) Will not cause a major increase in costs or prices for consumers, individual industries, federal, state, or local government agencies, or geographic regions.

(c) Does not have significant adverse effects on competition, employment, investment, productivity, innovation, or the ability of U.S. based enterprises to compete with foreign-based enterprises.

Unfunded Mandates Reform Act (UMRA)

This rule does not impose an unfunded mandate on State, local, or tribal governments or the private sector of more than $100 million per year. The rule does not have a significant or unique effect on state, local or tribal governments or the private sector. The designated ORV routes and areas are located entirely within the recreation area, and would not result in direct expenditure by state, local, or tribal governments. This rule addresses public use of NPS lands, and imposes no requirements on other agencies or governments. A statement containing the information required by the UMRA (2 U.S.C. 1531 et seq.) is not required.

Takings (Executive Order 12630)

This rule does not effect a taking of private property or otherwise have taking implications under Executive Order 12630. Access to private property adjacent to the recreation area will not be affected by this rule. A takings implication assessment is not required.

Federalism (Executive Order 13132)

Under the criteria in section 1 of Executive Order 13132, this rule does not have sufficient federalism implications to warrant the preparation of a Federalism summary impact statement. The proposed rule is limited in effect to federal lands managed by the NPS and would not have a substantial direct effect on state and local government. A Federalism summary impact statement is not required.

Civil Justice Reform (Executive Order 12988)

This rule complies with the requirements of E.O. 12988. Specifically, this rule:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and tribal sovereignty. We have evaluated this rule under the criteria in Executive Order 13175 and under the Department's consultation policy and have determined that tribal consultation on the rule is not required because the rule will have no substantial direct effect on federally recognized Indian tribes. In support of the Department of Interior and NPS commitment for government-to-government consultation with the 19 Native American tribes and bands associated with the recreation area, and as a reflection of the shared boundary of the recreation area and the Navajo Nation, the NPS has engaged in a continuing process of consultation with these tribes and bands. This consultation has taken the form of correspondence, phone conversations, and meetings during the preparation of the FEIS.

Paperwork Reduction Act (PRA)

This rule does not contain any new collections of information that require approval by the Office of Management and Budget (OMB) under the PRA. OMB has approved the information collection requirements associated with NPS Special Park Use Permits and has assigned OMB Control Number 1024-0026 (expires 01/31/20) and in accordance with 5 CFR 1320.10, the agency may continue to conduct or sponsor this collection of information while the submission is pending at OMB). We estimate the annual burden associated with this information collection to be 21,750 hours per year. An agency may not conduct or sponsor and a person is not required to respond to a collection of information unless it displays a currently valid OMB control number.

National Environmental Policy Act of 1969 (NEPA)

This rule constitutes a major Federal action significantly affecting the quality of the human environment. We have prepared the FEIS under the NEPA. The FEIS is summarized above and available online at http://parkplanning.nps.gov/GLCAFinalORVplan.

Effects on the Energy Supply (Executive Order 13211)

This rule is not a significant energy action under the definition in Executive Order 13211. A Statement of Energy Effects is not required.

Clarity of This Regulation

We are required by Executive Orders 12866 (section 1(b)(12)), 12988 (section 3(b)(1)(B)), and 13563 (section 1(a)), and by the Presidential Memorandum of June 1, 1998, to write all rules in plain language. This means that each rule we publish must:

(a) Be logically organized;

(b) Use the active voice to address readers directly;

(c) Use common, everyday words and clear language rather than jargon;

(d) Be divided into short sections and sentences; and

(e) Use lists and tables wherever possible.

If you feel that we have not met these requirements, send us comments by one of the methods listed in the ADDRESSES section above. To better help us revise the rule, your comments should be as specific as possible. For example, you should tell us the numbers of the sections or paragraphs that you find unclear, which sections or sentences are too long, the sections where you feel lists or tables would be useful, etc.

Public Participation

It is the policy of the Department of the Interior, whenever practicable, to afford the public an opportunity to participate in the rulemaking process. Accordingly, interested persons may submit written comments regarding this proposed rule by one of the methods listed in the ADDRESSES section above.

Public Availability of Comments

Before including your address, phone number, email address, or other personal identifying information in your comment, you should be aware that your entire comment—including your personal identifying information—may be made publicly available at any time. While you can ask us in your comment to withhold your personal identifying information from public review, we cannot guarantee that we will be able to do so.

List of Subjects in 36 CFR Part 7

National Parks, Reporting and recordkeeping requirements.

In consideration of the foregoing, the NPS proposes to amend 36 CFR part 7 as follows:

PART 7—SPECIAL REGULATIONS, AREAS OF THE NATIONAL PARK SYSTEM

1. The authority citation for part 7 continues to read as follows:

Authority: 54 U.S.C. 100101, 100751, 320102; Sec. 7.96 also issued under DC Code 10-137 and DC Code 50-2201.07.

2. In § 7.70, add paragraph (f) to read as follows:

§ 7.70 Glen Canyon National Recreation Area.

* * * * *

(f) Motor vehicle use. Operating a motor vehicle is allowed within the boundaries of Glen Canyon National Recreation Area under the conditions in this paragraph (f).

(1) What terms do I need to know? In addition to the definitions found in § 1.4 of this chapter, the following definitions apply to this paragraph (f) only:

Conventional motor vehicle means any motor vehicle that is designed primarily for operation on streets and highways, and that is licensed and registered for interstate travel. Automobiles, vans, highway motorcycles (including dual-sports motorcycles licensed for use on a highway), sport utility vehicles (SUVs), recreational vehicles (RVs), pickup trucks, and buses are examples of conventional motor vehicles.

GMP road means a paved or unpaved road that is identified in the Glen Canyon 1979 General Management Plan as open to motor vehicle travel.

Off-highway vehicle (OHV) means any motor vehicle designed primarily for off-road travel. ATVs, dirt bikes, sand rails, side-by-sides, and dune buggies are examples of OHVs.

Orange Cliffs Special Management Unit means the area identified as the Orange Cliffs Special Management Unit in the Canyonlands National Park and Orange Cliffs Unit of Glen Canyon National Recreation Area Backcountry Management Plan (NPS 1995).

Street-legal all-terrain vehicle (ATV) means an ATV that qualifies under a state's motor vehicle and traffic code to be operated on state roads and highways.

(2) Off-road motor vehicle permit requirement. (i) A special use permit issued and administered by the superintendent is required to operate a motor vehicle off GMP roads at designated locations in the recreation area. Operating a motor vehicle off GMP roads in the recreation area without a permit is prohibited except for designated ORV routes that do not require a permit as indicated in the table to § 7.70(f)(3)(ii).

(ii) Annual permits are valid for one calendar year from the day they are issued. Two-week permits are valid from the day issued.

(iii) A permit applicant must acknowledge that he or she understands and agrees to abide by the rules governing off-road vehicle use in the recreation area.

(iv) Each motor vehicle permitted to operate off GMP roads must display an NPS decal issued by the superintendent and affixed to the vehicle in a manner and location specified by the superintendent.

(v) Permits may be requested at the recreation area headquarters in Page, Arizona, at recreation area entrance stations when staffed, on the recreation area website, or at other locations as designated by the superintendent.

(vi) Violating any term, condition, or requirement of an off-road vehicle permit is prohibited and may result in the suspension or revocation of the permit and the denial of future permits, in addition to the penalties provided by § 1.3 of this chapter.

(3) Designated off-road motor vehicle locations. (i) The operation of a motor vehicle off GMP roads within the recreation area is prohibited except at the locations designated by this paragraph (f). Designated locations and vehicle-free zones are identified on maps available at the recreation area headquarters, visitor contact stations, and on the recreation area website (www.nps.gov/glca).

(ii) Motor vehicles may be used off GMP roads at the following locations and subject to the following management prescriptions in the recreation area, except for vehicle-free zones where off-road vehicle use is prohibited:

Table to § 7.70(f)(3)(ii)
Designated area or route for off-road motor vehicle use | Approximate size | Management prescriptions
Lone Rock Beach | 250 acres | • 15 mph speed limit (unless otherwise posted). • Vehicle-free zone as posted.
|  | • Conventional motor vehicles, street-legal ATVs, and OHVs allowed with ORV permit.
|  | • Quiet hours between 10 pm and 6 am or as designated by superintendent
Lone Rock Beach Play Area | 180 acres | • Conventional motor vehicles, street-legal ATVs, and OHVs allowed with ORV permit.
|  | • OHVs required to display a red or orange safety flag at least six by 12 inches in size that is located at least eight feet off the ground, or at least 18 inches above the top of the protective headgear of a motorcycle operator.
|  | • Quiet hours between 10 pm and 6 am or as designated by superintendent.
Blue Notch | 325 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
Bullfrog North and South | 2,250 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
|  | • Vehicle-free zone as posted.
Copper Canyon | 30 acres | • Conventional motor vehicles and street-legal ATVs allowed with ORV permit year-round.
|  | • 15 mph speed limit (unless otherwise posted).
|  | • Quiet hours between 10 pm and 6 am or as designated by superintendent.
Crosby Canyon | 450 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
Dirty Devil | 75 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
Farley Canyon | 275 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
Hite Boat Ramp | 50 acres | • Conventional motor vehicles and street-legal ATVs allowed with ORV permit year-round.
|  | • 15 mph speed limit (unless otherwise posted).
|  | • Quiet hours between 10 pm and 6 am or as designated by superintendent.
Neskahi | 15 acres | • Conventional motor vehicles and street-legal ATVs allowed with ORV permit year-round.
|  | • 15 mph speed limit (unless otherwise posted).
|  | • Quiet hours between 10 pm and 6 am or as designated by superintendent.
Nokai Canyon | 275 acres | • Conventional motor vehicles and street-legal ATVs allowed with ORV permit year-round.
|  | • 15 mph speed limit (unless otherwise posted).
|  | • Quiet hours between 10 pm and 6 am or as designated by superintendent.
Paiute Canyon | 100 acres | • Conventional motor vehicles and street-legal ATVs allowed with ORV permit year-round.
|  | • 15 mph speed limit (unless otherwise posted).
|  | • Quiet hours between 10 pm and 6 am or as designated by superintendent.
Paiute Farms | 1,000 acres | • Conventional motor vehicles and street-legal ATVs allowed with ORV permit year-round.
|  | • 15 mph speed limit (unless otherwise posted).
|  | • Quiet hours between 10 pm and 6 am or as designated by superintendent.
Red Canyon | 50 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
Stanton Creek | 675 acres | • Conventional motor vehicles and street-legal ATVs allowed with ORV permit from March 1-October 31.
|  | • Conventional motor vehicles allowed with ORV permit from November 1-February 28/29.
|  | • 15 mph speed limit (unless otherwise posted.)
|  | • Quiet hours between 10 pm and 6 am or as designated by superintendent.
|  | • Vehicle-free zone as posted.
White Canyon | 325 acres | • Conventional motor vehicles and street-legal ATVs allowed with ORV permit from March 1-October 31.
|  | • Conventional motor vehicles allowed with ORV permit from November 1-February 28/29.
|  | • 15 mph speed limit (unless otherwise posted).
|  | • Quiet hours between 10 pm and 6 am or as designated by superintendent.
Ferry Swale | 16 miles | • Conventional motor vehicles, street-legal ATVs and OHVs allowed with ORV permit year-round.
|  | • 25 mph speed limit (unless otherwise posted).
Middle Moody Canyon Trailhead | 2 miles | • Conventional motor vehicles, street-legal ATVs and OHVs allowed year-round.
|  | • ORV permit not required.
|  | • 25 mph speed limit (unless otherwise posted).
East Gypsum Canyon Overlook | 1.2 miles | • Conventional motor vehicles, street-legal ATVs and OHVs allowed year-round.
|  | • ORV permit not required.
|  | • 25 mph speed limit (unless otherwise posted).
Imperial Valley | 0.75 miles | • Conventional motor vehicles, street-legal ATVs and OHVs allowed year-round.
|  | • ORV permit not required.
|  | • 25 mph speed limit (unless otherwise posted).
Gunsight Springs Trailhead | 1 mile | • Conventional motor vehicles, street-legal ATVs and OHVs allowed year-round.
|  | • ORV permit not required.
|  | • 25 mph speed limit (unless otherwise posted).

(4) On-road motor vehicle use. (i) Motor vehicles may be used on GMP roads as set forth in the following table:

Table to § 7.70(f)(4)(i)
Type of motor vehicle | Allowed on paved GMP roads in the recreation area, including in the Orange Cliffs Special Management Unit | Allowed on unpaved GMP roads in the recreation area outside the Orange Cliffs Special Management Unit | Allowed on paved and unpaved GMP roads in the Orange Cliffs Special Management Unit
Conventional motor vehicle | Yes | Yes | Yes.
Street-legal ATV | Yes (except for the Lees Ferry Developed Area) | Yes. | No (except for Poison Spring Loop).
OHV | No | Yes | No (except for Poison Spring Loop).

(ii) Operating a prohibited vehicle on a GMP road is prohibited.

(5) Motor vehicle and operator requirements.

(i) Motor vehicles must have a functioning muffler system. Operating a motor vehicle that emits more than 96 decibels of sound (using the SAE J1287 test standard) is prohibited. Creating or sustaining unreasonable noise considering the nature and purpose of the actor's conduct, impact on park users, location, and other factors which would govern the conduct of a reasonably prudent person is prohibited during quiet hours.

(ii) All motor vehicles operating in Lone Rock Beach Play Area must be equipped with a solid red or orange safety flag that is a minimum of six by 12 inches in size and that is attached to the vehicle so that the safety flag is at least eight feet above the surface of the level ground, or attached to the protective headgear of a person operating a motorcycle so that the safety flag is at least 18 inches above the top of the person's head. Operating a motor vehicle without a safety flag at Lone Rock Beach Play Area is prohibited.

(iii) Operating a motor vehicle in excess of 15 mph (unless otherwise posted) at the following off-road motor vehicle areas—Lone Rock Beach, Blue Notch, Bullfrog North and South, Copper Canyon, Crosby Canyon, Dirty Devil, Farley Canyon, Hite Boat Ramp, Neskahi, Nokai Canyon, Paiute Canyon, Paiute Farms, Red Canyon, Stanton Creek, and White Canyon—is prohibited.

(iv) Operating a motor vehicle in excess of 25 mph (unless otherwise posted) on off-road motor vehicle routes in Ferry Swale, Middle Moody Canyon Trailhead, East Gypsum Canyon Overlook, Imperial Valley, and Gunsight Springs Trailhead is prohibited.

(v) Operating a motor vehicle within a designated off-road motor vehicle area during posted quiet hours with the exception of entering and exiting the area is prohibited.

(vi) Operating a generator or audio device, such as a radio, deck or compact disc player, within a designated off-road motor vehicle area during posted quiet hours is prohibited. During the hours of permitted operation, generators must be adequately muffled and not create excessive noise as defined in 36 CFR 2.12(a)(1).

(vii) Operating a motor vehicle within a posted “vehicle-free” zone is prohibited.

(6) Superintendent's authority. (i) The superintendent may close or reopen designated areas or routes to motor vehicle use, or impose conditions or restrictions on the use of off-road motor vehicles after taking into consideration public health and safety, natural and cultural resource protection, lake levels, and other management activities and objectives.

(ii) The superintendent will provide public notice of all such actions through one or more of the methods listed in § 1.7 of this chapter.

(iii) Violating any such closure, condition, or restriction is prohibited.

(iv) The superintendent may suspend or revoke an existing permit, and may deny future applications for an off-road motor vehicle permit based upon violations of any such closure, condition, or restriction.

Jason Larrabee,
Principal Deputy Assistant Secretary for Fish and Wildlife and Parks, Exercising the Authority of the Assistant Secretary for Fish and Wildlife and Parks.

[FR Doc. 2018-04030 Filed 2-27-18; 8:45 am]

BILLING CODE 4312-52-P